DEPARTMENT OF COMMERCE

Foreign-Trade Zones Board

[S-151-2020]

Foreign-Trade Zone 65—Panama City, Florida; Application for Expansion of Subzone 65A; Eastern Shipbuilding Group, Inc.; Panama City and Port St. Joe, Florida

An application has been submitted to the Foreign-Trade Zones (FTZ) Board by the Panama City Port Authority, grantee of FTZ 65, requesting expanded subzone status for the facilities of Eastern Shipbuilding Group, Inc. (Eastern Shipbuilding), located in Panama City and Port St. Joe, Florida. The application was submitted pursuant to the provisions of the Foreign-Trade Zones Act, as amended (19 U.S.C. 81a-81u), and the regulations of the FTZ Board (15 CFR part 400). It was formally docketed on August 27, 2020.

The application is requesting authority to expand Site 1 of Subzone 65A in Panama City, Florida to include an additional 1.69 acres located at 116 East Avenue South and an additional 4.38 acres located at 202 East Avenue South. The application also requests authority to include a new site (proposed Site 4—20 acres) located at 342 Howard Road, Port St. Joe, Florida.

Because the proposed new site of the subzone is outside of FTZ 65's Alternative Site Framework (ASF) service area, authorization of the expanded subzone would not be under the ASF. The proposed expanded subzone would be subject to the existing activation limit of FTZ 65.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is October 13, 2020. Rebuttal comments in response to material submitted during the foregoing period may be submitted during the subsequent 15-day period to October 26, 2020.

A copy of the application will be available for public inspection in the “Reading Room” section of the FTZ Board's website, which is accessible via www.trade.gov/ftz.

For further information, contact Christopher Kemp at Christopher.Kemp@trade.gov or (202) 482-0862.

Dated: August 27, 2020.
Andrew McGilvray,
Executive Secretary.

[FR Doc. 2020-19260 Filed 8-31-20; 8:45 am]

BILLING CODE 3510-DS-P